DEPARTMENT OF HOUSING AND URBAN DEVELOPMENT

[Docket No. FR-7050-N-48]

14-Day Notice of Emergency Approval of an Information Collection: Thriving Communities Technical Assistance NOFO

AGENCY: Office of Policy Development and Research, HUD.

ACTION: Announcement notice.

SUMMARY: In accordance with the Paperwork Reduction Act, HUD has requested from the Office of Management and Budget (OMB) emergency approval of the information collection described in this notice. HUD is requesting comment from all interested parties on the proposed collection of information. The purpose of this notice is to allow for 14 days of public comment.

DATES: Comments Due Date: September 13, 2022.

ADDRESSES: Interested persons are invited to submit comments regarding this proposal. Comments should refer to the proposal by name and/or OMB Control Number and should be sent to: Anna Guido, Reports Management Officer, REE, Department of Housing and Urban Development, 451 7th Street SW, Washington, DC 20410; email Anna Guido at Anna.P.Guido@hud.gov or telephone 202-402-5535 for a copy of the proposed forms or other available information. Persons with hearing or speech impairments may access this number through TTY by calling the toll-free Federal Relay Service at (800) 877-8339.

FOR FURTHER INFORMATION CONTACT: Colette Pollard, Reports Management Officer, REE, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in section A.

A. Overview of Information Collection

Title of Information Collection: Thriving Communities Technical Assistance NOFO.

OMB Approval Number: Pending.

Type of Request: New Collection.

Form Number: Application for Federal Assistance, SF424; Disclosure of Lobbying Activities, SFLLL; Disclosure/Update Report, HUD-2880; and NOFO narrative.

Description of the Need for the Information and Proposed Use: Application information is needed to determine the competition winner, i.e., the technical assistance provider best able to help jurisdictions ensure housing needs are considered as part of their larger infrastructure investment plan while supporting equitable development and local economic ecosystems. Additional information is needed during the life of the award from the competition winner, i.e., the technical assistance providers, to fulfill the administrative requirements of the award.

Respondents: Organizations.

Estimated Number of Respondents: 10.

Estimated Number of Responses: 10.

Frequency of Response: 1.

Average Hours per Response: 44.5.

Estimated Total Burden: 445.

Estimated Total Annual Cost: The total estimated cost is $23,300.

The Consolidated Appropriations Act 2022 gave $25 million to the Department of Transportation (DOT) for a Thriving Communities program. HUD was directed, in the report language to the Appropriations Act, to use $5 million of its technical assistance funding to work with the Department of Transportation “to ensure housing and infrastructure development is taken into consideration as part of the thriving communities program.”

The emergency review is needed to fulfill Congress' intent for the HUD to expeditiously provide technical assistance to jurisdictions, which are currently designing and implementing infrastructure investments, to support them in to meet critical housing needs, particularly for their low-income residents. Given the critical role housing plays in the well-being of individuals and communities, this opportunity to support more housing during this time of historic investment is essential.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. chapter 35.

Colette Pollard,
Department Reports Management Officer, Office of the Chief Information Officer.

[FR Doc. 2022-18684 Filed 8-29-22; 8:45 am]

BILLING CODE 4210-67-P